DEPARTMENT OF TRANSPORTATION

Office of the Secretary

Aviation Proceedings, Agreements filed the week ending October 7, 2005

The following Agreements were filed with the Department of Transportation under the Sections 412 and 414 of the Federal Aviation Act, as amended (49 U.S.C. 1382 and 1384) and procedures governing proceedings to enforce these provisions. Answers may be filed within 21 days after the filing of the application.

Docket Number: OST-2005-22659.

Date Filed: October 4, 2005.

Parties: Members of the International Air Transport Association.

Subject: GVA/SRC/003/05 dated 19 August 2005 and GVA/SRC/005 dated August 28, 2005, i.e. Resolution 801r Intended effective date: 1 November 2005.

Renee V. Wright,
Program Manager, Docket Operations, Federal Register Liaison.

[FR Doc. 05-21537 Filed 10-27-05; 8:45 am]

BILLING CODE 4910-62-P